SOCIAL SECURITY ADMINISTRATION

[Docket No. SSA-2021-0032]

Privacy Act of 1974; Matching Program

AGENCY: Social Security Administration (SSA).

ACTION: Notice of a new matching program.

SUMMARY: In accordance with the provisions of the Privacy Act, as amended, this notice announces a new matching program with the States, including tribal agencies and United States (U.S.) territories. The purpose of the matching program is to set forth the terms and conditions governing disclosures of records, information, or data (collectively referred to herein as “data”) made by SSA to various State agencies and departments, tribal agencies, and U.S. territories (collectively referred to as “State Agencies”) that administer federally funded benefit programs, including those under various provisions of the Social Security Act (Act), as well as the state-funded state supplementary payment programs under Title XVI of the Act.

DATES: The deadline to submit comments on the proposed matching program is March 2, 2022. The matching program will be applicable on July 1, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2021-0032 so that we may associate your comments with the correct regulation. Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2021-0032 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Melissa Feldhan, Division Director, Office of Privacy and Disclosure, Office of the General Counsel, Social Security Administration, G-401 WHR, 6401 Security Boulevard, Baltimore, MD 21235-6401, at telephone: (410) 965-1416, or send an email to Melissa.Feldhan@ssa.gov.

SUPPLEMENTARY INFORMATION: None.

Matthew Ramsey,
Executive Director, Office of Privacy and Disclosure, Office of the General Counsel.

Participating Agencies: SSA and the States, State Agencies, tribal agencies, and U.S. territories.

Authority for Conducting the Matching Program: The legal authorities for SSA to disclose data and the States' authority to collect, maintain, and use data protected under SSA's systems of records (SOR) for the specified purposes are:

• Sections 453, 1106(b), and 1137 of the Act (42 U.S.C. 653, 1306(b), and 1320b-7) (income and eligibility verification data);

• 26 U.S.C. 6103(l)(7) and (8) (Federal tax information);

• Sections 202(x)(3)(B)(iv) and 1611(e)(1)(I)(iii) of the Act (42 U.S.C. 402(x)(3)(B)(iv) and 1382(e)(1)(I)(iii)) (prisoner data);

• Section 205(r)(3) of the Act (42 U.S.C. 405(r)(3)) and the Intelligence Reform and Terrorism Prevention Act of 2004, Public Law 108-458, 7213(a)(2) (death data);

• Sections 402, 412, 421, and 435 of Public Law 104-193 (8 U.S.C. 1612, 1622, 1631, and 1645) (quarters of coverage data);

• Section 1902(ee) of the Act (42 U.S.C. 1396a(ee)); Children's Health Insurance Program Reauthorization Act of 2009 (CHIPRA), Public Law 111-3 (citizenship data); and

• Routine use exception to the Privacy Act, 5 U.S.C. 552a(b)(3) (data necessary to administer other programs compatible with SSA programs).

Purpose(s): The purpose of the matching program is to set forth the terms and conditions governing disclosures of data made by SSA to various State agencies that administer federally funded benefit programs, including those under various provisions of the Act, such as section 1137 of the Act (42 U.S.C. 1320b-7), as well as the state-funded state supplementary payment programs under Title XVI of the Act. The terms and conditions of the matching agreements ensure that SSA's disclosures and the State Agencies' use of such disclosed data is, in accordance with the requirements of the Privacy Act of 1974, as amended by the Computer Matching and Privacy Protection Act, 5 U.S.C. 552a.

Under section 1137 of the Act, States are required to use an income and eligibility verification system to administer specified federally funded benefit programs, including the state-funded state supplementary payment programs under Title XVI of the Act. To assist the State Agencies in determining entitlement to and eligibility for benefits under those programs, as well as other federally funded benefit programs, SSA verifies the Social Security number (SSN) and discloses certain data about applicants (and in limited circumstances, members of an applicant's household) for state-administered benefits from its Privacy Act SORs.

SSA has separate agreements with the State Agencies, which describe the information SSA will disclose for specified federally funded benefit programs.

Categories of Individuals: The individuals whose information is involved in this matching program are those who apply for federally funded, state-administered benefits, as well as current beneficiaries, recipients, and annuitants under the programs covered by the Agreement.

Categories of Records: The maximum number of records involved in this matching activity is the number of records maintained in SSA's SORs. Data elements disclosed in the matching governed by the Agreement are Personally Identifiable Information from SSA's specified SORs, including names, SSNs, addresses, amounts, and other information related to SSA's benefits and earnings information. Specific listings of data elements are available at: http://www.ssa.gov/dataexchange/.

System(s) of Records: SSA's SORs used for purposes of the subject data exchanges include:

• 60-0058—Master Files of SSN Holders and SSN Applications;

• 60-0059—Earnings Recording and Self-Employment Income System;

• 60-0090—Master Beneficiary Record;

• 60-0103—Supplemental Security Income Record (SSR) and Special Veterans Benefits (SVB);

• 60-0269—Prisoner Update Processing System (PUPS); and

• 60-0321—Medicare Database (MDB) File.

States will ensure that the Federal tax information contained in SOR 60-0059 (Earnings Recording and Self-Employment Income System) will only be used in accordance with 26 U.S.C. 6103.

[FR Doc. 2022-01847 Filed 1-28-22; 8:45 am]

BILLING CODE 4191-02-P